ENVIRONMENTAL PROTECTION AGENCY

40 CFR Part 63

[EPA-HQ-OAR-2002-0051; FRL-8915-1]

RIN 2060-AO15

National Emission Standards for Hazardous Air Pollutants From the Portland Cement Manufacturing Industry

AGENCY: Environmental Protection Agency (EPA).

ACTION: Notice of public hearings and extension of public comment period.

SUMMARY: On May 6, 2009, EPA proposed amendments to the National Emission Standards for Hazardous Air Pollutants from the Portland Cement Manufacturing Industry (74 FR 21136). EPA has received a request from a major environmental group to schedule additional public hearings and to schedule those hearings later than the original public hearing date. Given the significant public interest in this rule and to further public participation opportunities, EPA is granting the request and has scheduled three public hearings. These hearings will occur in Los Angeles, California on June 16, 2009, Dallas, Texas on June 17, 2009, and Arlington, Virginia on June 18, 2009. More information on the locations is shown in SUPPLEMENTARY INFORMATION.

In addition, EPA is extending the deadline for written comments on the proposed amendments to September 4, 2009. EPA received a request for this extension to the comment period from the Portland Cement Association and several cement manufacturing companies. The reason given for the request for the extension was the need for additional time to gather data and review the proposed amendments. Given the fact that the proposed amendments would make significant changes to the current rule, and the request by the cement industry to gather additional data, EPA finds this request to be reasonable.

DATES: Comments. Comments must be received on or before September 4, 2009.

Public Hearings. These hearings will occur in Los Angeles, California on June 16, 2009, Dallas, Texas on June 17, 2009, and Arlington, Virginia on June 18, 2009. Persons who wish to present oral testimony at the public hearings must register two business days prior to the hearings. The last day to register will be June 12, 2009 for the Los Angeles hearing, June 15, 2009, for the Dallas hearing, and June 16, 2009, for the Arlington hearing. The registration cut-off time is 5 p.m. EDT on the final day of registration. See SUPPLEMENTARY INFORMATION for information on how to register. Note that the preregistration requirement only applies if you wish to present testimony.

ADDRESSES: Submit your comments, identified by Docket ID No. EPA-HQ-OAR-2002-0051, by one of the following methods:

• http://www.regulations.gov: Follow the on-line instructions for submitting comments.

• E-mail: a-and-r-docket@epa.gov.

• Fax: (202) 566-9744.

• Mail: U.S. Postal Service, send comments to: EPA Docket Center (6102T), National Emission Standards for Hazardous Air Pollutants from the Portland Cement Manufacturing Industry Docket, Docket ID No. EPA-HQ-OAR-2002-0051, 1200 Pennsylvania Ave., NW., Washington, DC 20460. Please include a total of two copies.

• Hand Delivery: In person or by courier, deliver comments to: EPA Docket Center (6102T), National Emission Standards for Hazardous Air Pollutants from the Portland Cement Manufacturing Industry Docket, Docket ID No. EPA-HQ-OAR-2002-0051, EPA West, Room 3334, 1301 Constitution Avenue, NW., Washington, DC 20004. Such deliveries are only accepted during the Docket's normal hours of operation, and special arrangements should be made for deliveries of boxed information. Please include a total of two copies.

Instructions: Direct your comments to Docket ID No. EPA-HQ-OAR-2002-0051. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center, EPA West, Room 3334, 1301 Constitution Ave., NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: If you would like to speak at the public hearing or have questions concerning the public hearing, please contact Ms. Pamela Garrett at the address given below under SUPPLEMENTARY INFORMATION. Questions concerning the proposed rule should be addressed to Mr. Keith Barnett, Office of Air Quality Planning and Standards, Sector Policies and Programs Division, Metals and Minerals Group (D243-02), Environmental Protection Agency, Research Triangle Park, NC 27711, telephone number: (919) 541-5605; fax number: (919) 541-5450; e-mail address: barnett.keith@epa.gov.

SUPPLEMENTARY INFORMATION:

Public Hearing

The public hearing will provide interested parties the opportunity to present data, views, or arguments concerning the proposed rules. The EPA may ask clarifying questions during the oral presentations, but will not respond formally to the presentations at that time. Written statements and supporting information submitted during the comment period will be considered with the same weight as any oral comments and supporting information presented at the public hearings. Written comments must be postmarked by the last day of the comment period, September 4, 2009.

The public hearings will be held at the following times and locations:

Los Angeles, CA—June 16, 2009, Wilshire Grand Hotel, 930 Wilshire Blvd, Los Angeles, CA 90017, W: http://www.wilshiregrand.com/index.aspx.

Dallas, TX—June 17, 2009, Grand Hyatt DFW, 2337 South International Parkway, PO Box 619045, DFW Airport, TX 75261.9045, W: http://www.grandhyattdfw.com. This hotel is located near Terminal B at the Dallas-Fort Worth Airport.

Washington, DC—June 18, 2009, Potomac Yard Conference Center, Environmental Protection Agency, Conference Center—4th floor, Rooms 4370 & 4380, One Potomac Yard (South Building), 2777 S. Crystal Drive, Arlington, VA 22202. Entrance to this facility requires a photo ID.

The public hearings will begin at 10 a.m. and continue into the evening until 8 p.m. (local time) or later, if necessary, depending on the number of speakers wishing to participate. EPA is scheduling lunch breaks from 12:30 p.m. until 2 p.m. and dinner breaks from 5 p.m. to 6:30 p.m.

If you would like to present oral testimony at the hearings, please notify Ms. Pamela Garrett, EPA, Office of Air Quality Planning and Standards, Sector Policy and Programs Division, Energy Strategies Group (D243-01), Research Triangle Park, NC 27711, telephone number 919-541-7966, e-mail address: garrett.pamela@epa.gov (preferred method for registering). If using e-mail, please provide the following information: Time you wish to speak (morning, afternoon, evening), name, affiliation, address, e-mail address, telephone and fax numbers, if you need any audiovisual equipment and what kind (i.e., overhead or LCD projector).

EPA will make every effort to follow the schedule as closely as possible on the day of the hearings; however, please plan for the hearing to run either ahead of schedule or behind schedule. As noted above, registration closes at 5 p.m. EDT two business days prior to each public hearing.

Oral testimony will be limited to 5 minutes for each commenter to address the proposal. We will not be providing equipment for commenters to show overhead slides or make computerized slide presentations unless we receive special requests in advance. Commenters should notify Ms. Garrett if they will need specific audiovisual equipment. EPA encourages commenters to provide two copies of their oral testimony either electronically on computer disk, CD-ROM, or paper copy. The hearing schedule, including a list of speakers, will be posted on EPA's Web site for the proposal at http://www.epa.gov/ttn/atw/pcem/pcempg.html prior to the hearing. Verbatim transcripts of the hearings and written statements will be included in the rulemaking docket.

Comment Period

Written statements and supporting information submitted during the comment period will be considered with the same weight as any oral comments and supporting information presented at the public hearing. For the reasons noted above, the public comment period will now end on September 4, 2009. This extension of the public comment period will also allow for adequate time for public comment after the public hearings.

How Can I Get Copies of the Proposed Rule and Other Related Information?

The proposed rule for the National Emission Standards for Hazardous Air Pollutants from the Portland Cement Manufacturing Industry was published May 6, 2009 (74 FR 21136). EPA has established the public docket for the proposed rulemaking under docket ID No. EPA-HQ-OAR-2002-0051, and a copy of the proposed rule is available in the docket. We note that, since the proposed rule was published, additional materials have been added to the docket. Information on how to access the docket is presented above in the ADDRESSES section.

Dated: June 3, 2009.
Elizabeth Craig,
Acting Assistant Administrator.

[FR Doc. E9-13438 Filed 6-8-09; 8:45 am]

BILLING CODE 6560-50-P